DEPARTMENT OF DEFENSE

Department of the Army

[Docket ID: USA-2015-0025]

Privacy Act of 1974; System of Records

AGENCY: Department of the Army, DoD.

ACTION: Notice to alter a system of records.

SUMMARY: The Department of the Army proposes to alter a system of records notice AAFES 1504.03, entitled “Personal Property Movement and Storage Files” in its existing inventory of records systems subject to the Privacy Act of 1974, as amended. This system is used by the Army and Air Force Exchange Service to arrange the movement, storage, and handling of personal property; to identify/trace lost or damaged shipments; and to answer inquiries and monitor effectiveness of personal property traffic management functions.

DATES: Comments will be accepted on or before July 22, 2015. This proposed action will be effective on the date following the end of the comment period unless comments are received which result in a contrary determination.

ADDRESSES: You may submit comments, identified by docket number and title, by any of the following methods:

* Federal Rulemaking Portal: http://www.regulations.gov. Follow the instructions for submitting comments.

* Mail: Department of Defense, Office of the Deputy Chief Management Officer, Directorate of Oversight and Compliance, Regulatory and Audit Matters Office, 9010 Defense Pentagon, Washington, DC 20301-9010.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Leroy Jones, Jr., Department of the Army, Privacy Office, U.S. Army Records Management and Declassification Agency, 7701 Telegraph Road, Casey Building, Suite 144, Alexandria, VA 22325-3905 or by calling (703) 428-6185.

SUPPLEMENTARY INFORMATION: The Department of the Army's notices for systems of records subject to the Privacy Act of 1974 (5 U.S.C. 552a), as amended, have been published in the Federal Register and are available from the address in FOR FURTHER INFORMATION CONTACT or from the Defense Privacy and Civil Liberties Division Web site at http://dpcld.defense.gov/. The proposed systems reports, as required by 5 U.S.C. 552a(r) of the Privacy Act, as amended, were submitted on February 11, 2015, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: June 17, 2015.
Aaron Siegel,
Alternate OSD Federal Register Liaison Officer, Department of Defense.

AAFES 1504.03

System name:

Personal Property Movement and Storage Files (August 9, 1996, 61 FR 41572).

Changes:

* * * * *

System location:

Delete entry and replace with “Headquarters, Army and Air Force Exchange Service, 3911 S. Walton Walker Boulevard, Dallas, TX 75236-1598.”

Categories of individuals covered by the system:

Delete entry and replace with “Employees of the Army and Air Force Exchange Service (Exchange) whose permanent change of station is authorized by the Exchange.”

Categories of records in the system:

Delete entry and replace with “Employee's name, address and telephone number, forwarding address, mobile number, vehicle identification number (VIN), orders authorizing shipment/storage of personal property to include privately owned vehicles and house trailers/mobile homes; cash collection vouchers; application for shipment and/or storage of personal property, transportation control and movement document; personal property counseling checklist; government bill of lading; and storage contracts.”

Authority for maintenance of the system:

Delete entry and replace with “Title 10 U.S.C. 3013, Secretary of the Army; Title 10 U.S.C. 8013, Secretary of the Air Force; Army Regulation 215-1, Military Morale, Welfare, and Recreation Programs and Nonappropriated Fund Instrumentalities; and Army Regulation 215-8/AFI 34-211(I), Army and Air Force Exchange Service Operations.”

* * * * *

Routine uses for records maintained in the system, including categories of users and the purposes of such uses:

Delete entry and replace with “In addition to those disclosures generally permitted under 5 U.S.C. 552a(b) of the Privacy Act of 1974, as amended, these records or information contained therein may specifically be disclosed outside the DoD as a routine use pursuant to 5 U.S.C. 542a(b)(3) as follows:

Information is disclosed to commercial carriers for the purposes of identifying ownership, verifying delivery of shipment, supporting billing for services rendered, and justifying claims for loss, damage, or theft.

The Blanket Routine Uses set forth at the beginning of the Army's compilation of systems of records notices may apply to this system. The complete list of DoD blanket routine uses can be found online at: http://dpcld.defense.gov/Privacy/SORNsIndex/BlanketRoutineUses.aspx”

* * * * *

Storage:

Delete entry and replace with “Electronic images of paper records kept locally on secured network drive.”

Retrievability:

Delete entry and replace with “By individual's name.”

Safeguards:

Delete entry and replace with “Records are maintained in a controlled facility. Physical entry is restricted by the use of locks, guards, and is accessible only to authorized personnel. Access to records is limited to person(s) with an official “need to know” who are responsible for servicing the record in performance of their official duties. Persons are properly screened and cleared for access. Access to computerized data is role-based and further restricted by passwords which are changed periodically. In addition, integrity of automated data is ensured by internal audit procedures, data base access accounting reports and controls to preclude unauthorized disclosure.”

Retention and disposal:

Delete entry and replace with “Paper documents are maintained while case is open. When movement is complete, paper documents are scanned and uploaded into an electronic database within 7 days at which time paper records are destroyed by shredding. Electronic documents are cutoff at the close of the calendar year and destroyed by erasing/reformatting the media.”

System manager(s) and address:

Delete entry and replace with “Director/Chief Executive Officer, Army and Air Force Exchange Service, 3911 S. Walton Walker Boulevard, Dallas, TX 75236-1598.”

Notification procedure:

Delete entry and replace with “Individuals seeking to determine whether information about themselves is contained in this system should address written inquiries to the Director/Chief Executive Officer, Army and Air Force Exchange Service, 3911 S. Walton Walker Boulevard, Dallas, TX 75236-1598.

Individual should provide their full name or sufficient details to assist in locating their record, current address and telephone number, and signature.

In addition, the requestor must provide a notarized statement or an unsworn declaration made in accordance with 28 U.S.C. 1746, in the following format:

If executed outside the United States: `I declare (or certify, verify, or state) under penalty of perjury under the laws of the United States of America that the foregoing is true and correct. Executed on (date). (Signature)'

If executed within the United States, its territories, possessions, or commonwealths: `I declare (or certify, verify, or state) under penalty of perjury that the foregoing is true and correct. Executed on (date). (Signature).' ”

Record access procedures:

Delete entry and replace with “Individuals seeking access to information about themselves contained in this system should address written inquiries to the Director/Chief Executive Officer, Army and Air Force Exchange Service, ATTN: FOIA/Privacy Manager, 3911 S. Walton Walker Boulevard, Dallas, TX 75236-1598.

Individual should provide their full name or sufficient details to assist in locating their record, current address and telephone number, and signature.

In addition, the requestor must provide a notarized statement or an unsworn declaration made in accordance with 28 U.S.C. 1746 in the following format:

If executed outside the United States: `I declare (or certify, verify, or state) under penalty of perjury under the laws of the United States of America that the foregoing is true and correct. Executed on (date). (Signature).'

If executed within the United States, its territories, possessions, or commonwealths: `I declare (or certify, verify, or state) under penalty of perjury that the foregoing is true and correct. Executed on (date). (Signature)'.”

* * * * *

[FR Doc. 2015-15277 Filed 6-19-15; 8:45 am]

BILLING CODE 5001-06-P